DEPARTMENT OF COMMERCE

International Trade Administration

[A-533-808]

Continuation of Antidumping Duty Order: Stainless Steel Wire Rods From India

AGENCY: Import Administration, International Trade Administration, Department of Commerce.

SUMMARY: As a result of the determinations by the Department of Commerce (the Department) and the International Trade Commission (ITC) that revocation of the antidumping duty order on stainless steel wire rods from India would likely lead to continuation or recurrence of dumping and material injury to an industry in the United States, the Department is publishing notice of continuation of this antidumping duty order.

EFFECTIVE DATE: August 8, 2006.

FOR FURTHER INFORMATION CONTACT: Jacqueline Arrowsmith or Dana Mermelstein, AD/CVD Operations, Office 6, Import Administration, International Trade Administration, U.S. Department of Commerce, 14th Street & Constitution Avenue, NW., Washington, DC 20230; telephone: (202) 482-5255 and (202) 482-1391, respectively.

SUPPLEMENTARY INFORMATION:

Background

On July 1, 2005, the Department initiated and the ITC instituted a sunset review of the antidumping duty order on stainless steel wire rods from India pursuant to section 751(c) of the Tariff Act of 1930, as amended (the Act). See Initiation of Five-Year (Sunset) Reviews, 70 FR 38101 (July 1, 2005) and Stainless Steel Wire Rod from Brazil, France and India, Investigation Nos. 731-TA-636, 731-TA-637, and 731-TA-638 (Second Review), 70 FR 38207 (July 1, 2005).

As a result of its review, the Department found that revocation of the antidumping duty order would likely lead to continuation or recurrence of dumping, and notified the ITC of the magnitude of the margins likely to prevail were the order to be revoked. See Stainless Steel Wire Rods from Brazil, France and India: Notice of Final Results of Five-year (Sunset) Reviews of Antidumping Duty Orders, 70 FR 67447 (November 7, 2005). The ITC determined, pursuant to section 751(c) of the Act, that revocation of the antidumping duty order on stainless steel wire rods from India would likely lead to continuation or recurrence of material injury to an industry in the United States within a reasonably foreseeable time. See USITC Publication 3866 Stainless Steel Wire Rod from Brazil, France and India, Investigations Nos. 731-TA-636-638 (Second Review) (July 2006) and Stainless Steel Wire Rod From Brazil, France, and India (Inv. Nos. 731-TA-636-638) 71 FR 42118 (July 25, 2006).

Scope of the Order

Imports covered by this order are certain stainless steel wire rods (SSWR) from India. SSWR are products which are hot-rolled or hot-rolled annealed and/or pickled rounds, squares, octagons, hexagons, or other shapes, in coils. SSWR are made of alloy steels containing, by weight 1.2 percent or less of carbon and 10.5 percent of chromium, with or without other elements. These products are only manufactured by hot-rolling and normally sold in coiled form, and are solid cross-section. The majority of SSWR sold in the United States are round in cross-section shape, annealed and pickled. The most common size is 5.5 millimeters in diameter.

The merchandise subject to this order is currently classifiable under subheadings 7221.00.0005, 7221.00.0015, 7221.00.0030, 7221.00.0045, 7221.00.0075 of the Harmonized Tariff Schedule of the United States (HTSUS).¹ The HTSUS subheadings are provided for convenience and customs purposes. The written description remains dispositive.

¹ The merchandise subject to the scope of these orders was originally classifiable under all of the following HTS subheadings: 7221.00.0005, 7221.00.0015, 7221.00.0020, 7221.00.0030, 7221.00.0040, 7221.00.0045, 7221.00.0060, 7221.00.0075, and 7221.00.0080. HTSUS subheadings 7221.00.0020, 7221.00.0040, 7221.00.0060, 7221.00.0080 are no longer contained in the HTSUS.

Determination

As a result of the determinations by the Department and the ITC that revocation of this antidumping duty order would likely lead to continuation or recurrence of dumping and material injury to an industry in the United States, pursuant to section 751(d)(2) of the Act, the Department hereby orders the continuation of the antidumping duty order on stainless steel wire rods from India. U.S. Customs and Border Protection will continue to collect antidumping duty cash deposits at the rates in effect at the time of entry for all imports of subject merchandise.

The effective date of continuation of this order will be the date of publication in the Federal Register of this Notice of Continuation. Pursuant to sections 751(c)(2) and 751(c)(6)(A) of the Act, the Department intends to initiate the next five-year review of this order not later than June 2011.

This five-year (sunset) review and this notice are in accordance with section 751(c) of the Act.

Dated: August 1, 2006.
David M. Spooner,
Assistant Secretary for Import Administration.

[FR Doc. E6-12860 Filed 8-7-06; 8:45 am]

BILLING CODE 3510-DS-P